DEPARTMENT OF THE INTERIOR

Bureau of Land Management

[LLCAD08000.L12200000.DT0000.19XL1109AF.LXSSB0010000 (MO#4500135579)]

Notice of Availability of the Final Supplemental Environmental Impact Statement and Proposed Land Use Plan Amendment to the California Desert Conservation Area Plan for the West Mojave Route Network Project, Inyo, Kern, Los Angeles, Riverside, and San Bernardino Counties, California

AGENCY: Bureau of Land Management, Interior.

ACTION: Notice of availability.

SUMMARY: In accordance with the National Environmental Policy Act of 1969, as amended, and the Federal Land Policy and Management Act of 1976, as amended, the Bureau of Land Management (BLM) has prepared a Final Supplemental Environmental Impact Statement (EIS) and Proposed Land Use Plan Amendment to the California Desert Conservation Area (CDCA) Plan for the West Mojave Route Network Project (WMRNP), and by this notice is announcing its availability.

DATES: BLM planning regulations state that any person who meets the conditions as described in the regulations may protest the BLM's Final Supplemental Environmental Impact Statement and Proposed Land Use Plan Amendment. A person who meets the conditions and files a protest must file the protest within 30 days of the date that the Environmental Protection Agency publishes its Notice of Availability in the Federal Register.

ADDRESSES: The Final Supplemental EIS and Proposed Land Use Plan Amendment is available electronically on the BLM ePlanning project website at https://go.usa.gov/xE6YH.

Copies of the Final Supplemental EIS and Proposed Land Use Plan Amendment are available for public inspection at the BLM-Ridgecrest Field Office, 300 South Richmond Road, Ridgecrest, CA 93555; the BLM-Barstow Field Office, 2601 Barstow Road, Barstow, CA 92311; and the BLM-California Desert District Office, 22835 Calle San Juan de Los Lagos, Moreno Valley, CA 92553.

All protests must be in writing and filed with the BLM Director, either as a hard copy or electronically, via the BLM's ePlanning project website listed previously. To submit a protest electronically, go to the ePlanning project website and follow the protest instructions highlighted at the top of the home page. If submitting a protest in hard copy, it must be mailed to one of the following addresses:

Regular Mail: BLM Director (210), Attention: Protest Coordinator, P.O. Box 71383, Washington, DC 20024-1383

Overnight Delivery: BLM Director (210), Attention: Protest Coordinator, 20 M Street SE, Room 2134LM, Washington, DC 20003

FOR FURTHER INFORMATION CONTACT: Matt Toedtli, Planning and Environmental Coordinator, telephone: 760-252-6026; address: 2601 Barstow Road, Barstow, CA 92311; email: mtoedtli@blm.gov. Persons who use a telecommunications device for the deaf (TDD) may call the Federal Relay Service (FRS) at 1-800-877-8339 to contact Mr. Toedtli during normal business hours. The FRS is available 24 hours a day, 7 days a week, to leave a message or question. You will receive a reply during normal business hours.

SUPPLEMENTARY INFORMATION: The BLM prepared the WMRNP Proposed Land Use Plan Amendment and Final Supplemental EIS to comply with a U.S. District Court Order that partially remanded the 2006 West Mojave (WEMO) Plan Amendment Record of Decision (ROD) to the BLM and directed the BLM to reconsider route designations throughout the WEMO Planning Area, as well as other specified issues in the 2006 WEMO Plan. The Court held that the BLM failed to consider regulatory criteria when designating routes, that the WEMO Plan was inconsistent with language of the CDCA Plan, which limits routes to those existing in 1980, and that the EIS did not contain a reasonable range of alternatives and failed to adequately address the No-Action Alternative or analyze impacts to soils, cultural resources, biological resources, and air quality.

The WMRNP involves both a land use plan amendment and implementation-level actions within the WEMO Planning Area. The land use plan amendment addresses specific regulation and policies, including travel management guidance for route designation, and amends language that limits the route network to routes that existed in 1980. Proposed changes to the land use plan include guidelines for stopping, parking, and camping adjacent to designated routes. Alternative 2 also considers changes to the livestock grazing program, which would re-allocate forage from livestock use to wildlife use and ecosystem function in desert tortoise critical habitat. Other plan-level changes considered include identifying travel management areas, modifying off-highway vehicle use on four lakebeds, modifying competitive event access, and eliminating the permit requirement for motorized access to the Rand Mountains-Fremont Valley Management Area. Implementation-level decisions considered include the adoption of travel management plans and a designated route network based on the designation criteria of 43 CFR 8342.1.

The WEMO planning area covers 9.4 million acres of the CDCA in the western portion of the Mojave Desert in southern California, including parts of San Bernardino, Los Angeles, Riverside, Kern, and Inyo counties. The WMRNP applies to the 3.1 million acres of public lands within the WEMO planning area. The 9.4 million-acre WEMO planning area includes several large Department of Defense facilities covering almost 3 million acres, a portion of one National Park, 3 million acres of private lands, and approximately 100,000 acres of State lands, including Red Rock Canyon State Park. Much of the planning area is managed as part of the BLM's National Landscape Conservation System, including portions of the Pacific Crest Trail and the Old Spanish National Historic Trail. The planning area includes 63 Areas of Critical Environmental Concern, 5 California Desert National Conservation Lands, 7 National Register Archaeological and 6 National Register Historic Districts, 4 Critical Habitat Units for the federally listed desert tortoise, and 8 Off-Highway Vehicle Open Areas.

On March 16, 2018, the BLM issued a Draft Land Use Plan Amendment and Supplemental EIS. The Draft Supplemental EIS evaluated four alternatives, including a No-Action Alternative. During the 90-day public comment period, the BLM held four public meetings. The BLM received more than 9,000 public comments of which more than 7,900 were route-specific comments.

Public comments on the Draft Land Use Plan Amendment and Supplemental EIS were considered and incorporated as appropriate into the WMRNP Proposed Land Use Plan Amendment and Final Supplemental EIS. Public comments resulted in changes to the route designation alternatives, including addition of one alternative, additional environmental analysis for several resources, addition of clarifying text, re-organization of text including appendices, and removal of duplicative text. Comments that were not route-specific were organized into categories and responses were developed to each group of comments. The response-to-comment document is provided in Appendix I of the Final Supplemental EIS. The BLM has added and selected Alternative 5 as the Agency Proposed Action in the Proposed Land Use Plan Amendment and Final Supplemental EIS.

Instructions for filing a protest with the Director of the BLM regarding the Proposed Land Use Plan Amendment and Final Supplemental EIS may be found online at https://go.usa.gov/xE6gN, and at 43 CFR 1610.5-2. All protests must be in writing and mailed to the appropriate address, as set forth in the ADDRESSES section, or submitted electronically through the BLM ePlanning project website as described earlier. Protests submitted electronically by any means other than the ePlanning project website protest section will be invalid unless a protest is also submitted in hard copy. Protests submitted by fax will also be invalid unless also submitted either through the ePlanning project website protest section or in hard copy.

Unlike land use planning decisions, implementation decisions included in this Proposed Land Use Plan Amendment and Final Supplemental EIS are not subject to protest under the BLM planning regulations, but are subject to an administrative review process through appeals to the Office of Hearings and Appeals, Interior Board of Land Appeals pursuant to 43 CFR part 4 subpart E. Implementation decisions generally constitute the BLM's final approval allowing on-the-ground actions to proceed. Where implementation decisions are made as part of the land use planning process, they are still subject to the appeals process or other administrative review as prescribed by specific resource program regulations once the BLM resolves the protests to land use planning decisions and issues a Record of Decision.

Before including your address, phone number, email address, or other personal identifying information in your protest, please be aware that your entire protest—including your personal identifying information—may be made publically available at any time. While you can ask us in your comment to withhold your personal identifying information from public review, we cannot guarantee that we will be able to do so.

(Authority: 40 CFR 1506.6, 40 CFR 1506.10, 43 CFR 1610.2, 43 CFR 1610.5, 43 CFR 1610.6)

Danielle Chi,
Deputy State Director, Fire and Resources.

[FR Doc. 2019-08281 Filed 4-25-19; 8:45 am]

BILLING CODE 4310-40-P